DEPARTMENT OF ENERGY

Federal Energy Regulatory Commission

[Docket No. RP01-267-001]

Northern Border Pipeline Company; Notice of Compliance Filing

May 15, 2001.

Take notice that on April 13, 2001, Northern Border Pipeline Company (Northern Border) tendered for filing its responses to the several questions raised by the Commission in its Order issued March 30, 2001, seeking additional information on Northern Border's firm backhaul transportation service under Rate Schedule T-1B.

Northern Border states that the filing is being made in compliance with the Commission's order issued March 30, 2001 in Docket No. RP01-267-000.

Any person desiring to protest said filing should file a protest with the Federal Energy Regulatory Commission, 888 First Street, NE., Washington, DC 20426, in accordance with Section 385.211 of the Commission's Rules and Regulations. All such protests must be filed on or before May 22, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12653 Filed 5-18-01; 8:45 am]

BILLING CODE 6717-01-M